DEPARTMENT OF TRANSPORTATION

ITS Joint Program Office; Intelligent Transportation Systems Program Advisory Committee; Notice of Meeting

AGENCY: Research and Innovative Technology Administration, U.S. Department of Transportation.

ACTION: Notice.

This notice announces, pursuant to Section 10(a)(2) of the Federal Advisory Committee Act (FACA) (Pub. L. 72-363; 5 U.S.C. app.), a meeting of the Intelligent Transportation Systems (ITS) Program Advisory Committee (ITS PAC). The meeting will be held on June 17, 2011, from 8 a.m. to 4 p.m. in the Oklahoma Room of the U.S. Department of Transportation (U.S. DOT) Conference Center on the lobby level of the U.S. DOT West Building, 1200 New Jersey Avenue, SE., Washington, DC 20590.

The ITS PAC, established under Section 5305 of Public Law 109-59, Safe, Accountable, Flexible, Efficient Transportation Equity Act: A Legacy for Users, August 10, 2005, was created to advise the Secretary of Transportation on all matters relating to the study, development, and implementation of intelligent transportation systems. Through its sponsor, the ITS Joint Program Office (JPO), the ITS PAC makes recommendations to the Secretary regarding ITS Program needs, objectives, plans, approaches, content, and progress.

Following is the meeting preliminary agenda: (1) Welcome and Opening Remarks; (2) Review Technology Strategy Subcommittee Recommendations; (3) Review Standards and Harmonization Subcommittee Recommendations; (4) Review Program Evaluation and Strategy Subcommittee Recommendations; and (5) Summary and Action Item Review.

The meeting will be open to the public, but limited space will be available on a first-come, first-served basis. Since access to the U.S. DOT building is controlled, non-committee members who plan to attend the meeting must notify Mr. Stephen Glasscock, the Committee Designated Federal Official, at (202) 366-9126 not later than June 10, 2011. Individuals attending the meeting must report to the 1200 New Jersey Avenue entrance of the U.S. DOT Building for admission. Members of the public who wish to present oral statements at the meeting must request approval from Mr. Glasscock not later than June 10, 2011.

Questions about the agenda or written comments may be submitted by U.S. Mail to: U.S. Department of Transportation, Research and Innovative Technology Administration, ITS Joint Program Office, Attention: Stephen Glasscock, 1200 New Jersey Avenue, SE., HOIT, Room E33-415, Washington, DC 20590 or faxed to (202) 493-2027. The JPO requests that written comments be submitted no later than June 10, 2011.

Notice of this meeting is provided in accordance with FACA and the General Services Administration regulations (41 CFR part 102-3) covering management of Federal advisory committees.

Issued in Washington, DC, on the 25th day of May 2011.
Shelley Row,
Director, ITS Joint Program Office.

[FR Doc. 2011-13552 Filed 5-31-11; 8:45 am]

BILLING CODE 4910-HY-P